DEPARTMENT OF AGRICULTURE

Forest Service

Big Butte Timber Sales and Related Activities, Rogue River National Forest Jackson County, OR

AGENCY: Forest Service, USDA.

ACTION: Notice of intent to prepare an Environmental Impact Statement.

SUMMARY: The USDA, Forest Service will prepare an environmental impact statement (EIS). The purpose of the EIS is to analyze and disclose the environmental impacts of a site specific proposal to commercially harvest and regenerate trees, construct, reconstruct, and decommission roads, implement vegetation density management activities, implement wildlife projects, and conduct prescribed burns. The activities are proposed in the Big Butte Springs watershed located on lands administered by the Rogue River National Forest, Butte Falls Ranger District, Jackson County, Oregon. The Proposed Action will tier to and be designed under the Rogue River National Forest Land and Resource Management Plan (1990), as amended by the Record of Decision for the Northwest Forest Plan (1994), which provides guidance for land management activities. This proposal is scheduled for implementation during fiscal years 2000-2003. The Cascade Zone invites written comments concerning the scope of the analysis in addition to those comments that will be solicited as a result of local public participation activities. The Forest Service will also give notice of the full environmental analysis and decision making process so that interested and affected people are made aware as to how they may participate and contribute to the final decision.

DATES: Issues and comments concerning the scope, implementation, and analysis of the Proposed Action must be received by May 15, 2000.

ADDRESSES: Submit written comments regarding the Proposed Action to Joel King, District Ranger, Prospect Ranger District, 47201 Highway 62, Prospect, Oregon, 97536.

FOR FURTHER INFORMATION CONTACT: Direct questions about the Proposed Action and EIS to Don Boucher, Interdisciplinary Team Leader, Prospect Ranger District, 47201 Highway 62, Prospect, Oregon, 97536, phone: 541-560-3400, FAX: 541-560-3444, e-mail: dboucher@fs.fed.us.

SUPPLEMENTARY INFORMATION: The Big Butte Timber Sales and Related Activities Project will take place within the upper portion of the Big Butte Springs Watershed. This sub-watershed is also referred to as the Medford Watershed because it supplies domestic water to the city of Medford, Oregon and surrounding communities. The Big Butte Springs watershed is located approximately 18 miles east of Medford, Oregon, and is just north of State Highway 140. Only Forest Service managed lands would be treated. The legal description of the area being considered is: T 35 S, R 3 E, sections 13, 22-36; T 35 S, R 4 E, sections 7-34; T 36 S, R 3 E, sections 1-17, 21-28, 35, & 36; T 36 S, R 4 E, sections 3-8, 16-21, & 27-33; Willamette Meridian.

The Forest Service Proposed Action implement activities which include, in part, one or more timber sales involving approximately 6,200 acres of harvest units. Silvicultural prescriptions include: density management of overstocked stands of trees (approximately 1,700 acres); treating mature stands with small group selections or even-aged management (approximately 2,000 acres); and, density management of small, younger stands for forest health and stand development (approximately 2,500 acres). Other projects include road decommissioning (approximately 13 miles), prescribed fire for wildlife habitat improvement and fuels reduction (approximately 500 acres), density management of stands of young trees less than six inches in diameter (approximately 1,500 acres), and other wildlife improvement projects. Minor amounts of new road construction or reconstruction may be necessary to access harvest units. These activities are proposed on Matrix lands in the Northwest Forest Plan. The Big Butte Springs watershed is not a Tier 1 Key Watershed. No activities are planned within any inventoried roadless areas.

The Purpose and Need for the Proposed Action is to implement management direction from the Rogue River National Forest Land and Resource Management Plan as amended by the Northwest Forest Plan and to manage for ecosystem needs. Specifically for the Big Butte area, needs include; improvement of overall forest health by stimulating natural processes that encourage more stable and resilient forest vegetation conditions; management and improvement of stand densities and species composition in overstocked natural and created sapling and pole stands; management, maintenance or improvement of current soil and water quality conditions; management, maintenance or improvement of current big game winter range conditions and Forest Service road systems; and providing a sustainable yield of commercial timber and other commodities, in concert with land management allocation and direction.

The following preliminary issues are identified: direct, indirect, and cumulative impacts to soils; water quality, including domestic watershed values; vegetation condition (diversity of seral stages and control insects and disease); wildlife big game winter range and travel and migration corridors; and human and social values such as economic feasibility and preservation of currently unroaded areas. The Forest Service will consider these and other issues with the Proposed Action, and develop additional alternatives to the Proposed Action that respond to the significant issues. The no-action alternative will also be considered.

Public participation will be important during the analysis. Reviewers may refer to the Council on Environmental Quality Regulations for Implementing the procedural provisions of the National Environmental Policy Act at 40 CFR 1501.7. The Agency will be seeking written issues with the Proposed Action from Federal, State, and local agencies, any affected Indiana tribes, and other individuals who may be interested in or affected by the Proposed Action. This input will be used to develop additional alternatives.

The Draft EIS is expected to be filed with the Environmental Protection Agency (EPA) and be available for review for June 2000. The comment period for the Draft EIS will be 45 days from the date that the EPA publishes the Notice of Availability in the Federal Register.

Comments received in response to this notice, including names and addresses of those who comment, will be considered part of the public record on this Proposed Action and will be available for public inspection. Comments submitted anonymously will be accepted and considered, however, those who submit anonymous comments will not have standing to appeal the subsequent decision under 36 CFR Part 215. Additionally, pursuant to 7 CFR 1.27(d), any person may request the agency to withhold a submission from the public record by showing how the Freedom of Information Act (FOIA) permits such confidentiality. Person requesting such confidentiality should be aware that, under the FOIA, confidentially may be granted in only very limited circumstances, such as to protect trade secrets. The Forest Service will inform the requester of the agency's decision regarding the request for confidentiality, and where the request is denied, the agency will return the submission and notify the requester that the comments may be resubmitted with or without name and address within a specified number of days.

The Forest Service believes it is important to give reviewers notice at this early stage of several court rulings related to public participation in the environmental review process. First, a reviewer of a Draft EIS must structure their participation in the environmental review process of the proposal so that it is specific, meaningful, and alerts an agency to the review's position and contentions. Vermont Yankee Power Corp. v. NRDC, 435 U.S. 519, 533 (1978). Also, environmental objections that could be raised at the Draft EIS stage, but that are not raised until after the completion of the final EIS, may be waived or dismissed by the courts. City of Angoon v. Hodel, 803 F.2d. 1016, 1022 (9th Cir. 1986) and Wisconsin Heritages Inc. v. Harris, 409 F. Supp. 1334, 1338 (E.D. Wis. 1980). Because of these court rulings, it is very important that those interested in this Proposed Action participate by the close of the 45 day comment period so that substantive comments and objections are made available to the Forest Service at a time when it can meaningfully consider and respond to them in the Final EIS.

To assist the Forest Service in identifying and considering issues and concerns on the Proposed Action, comments on the Draft EIS should be as specific as possible. It is also helpful if comments refer to specific pages or chapters of the Draft EIS. Comments may also address the inadequacy of the Draft EIS or the merits of the alternatives formulated and discussed in the EIS. Reviewers may wish to refer to the Council on Environmental Quality Regulations for implementing the procedural provisions of the National Environmental Policy Act at 40 CFR 1503.3 in addressing these points.

After the 45 day comment period ends on the Draft EIS, comment will be considered and analyzed by the Agency in preparing the Final EIS. The Final EIS is scheduled for completion by September 2000. In the Final EIS, the Forest Service is required to respond to the comments and responses received during the comment period that pertain to the environmental consequences discussed in the Draft EIS and applicable laws, regulations, and policies considered in making the decision regarding the proposal.

The Forest Service is the Lead Agency. The Forest Service Responsible Official is Joel King, Prospect District Ranger. The Responsible Official will consider the Final EIS, applicable laws, regulations, policies, and analysis files in making a decision. The Responsible Official will document the Big Butte Timber Sales and Related Activities decision and rationale in a Record of Decision. The decision will be subject to under Forest Service appeal regulation (36 CFR Part 215).

Dated: March 28, 2000.
Joel T. King,
Prospect District Ranger.

[FR Doc. 00-8623 Filed 4-6-00; 8:45 am]

BILLING CODE 3410-11-M